ENVIRONMENTAL PROTECTION AGENCY

40 CFR Part 52

[EPA-R04-OAR-2016-0655; FRL-10012-46-Region 4]

Air Plan Approval; SC and TN: Minimum Reporting Requirements in SIPs

AGENCY: Environmental Protection Agency (EPA).

ACTION: Proposed rule.

SUMMARY: The Environmental Protection Agency (EPA) is proposing to approve a portion of State Implementation Plan (SIP) revisions for South Carolina submitted by the South Carolina Department of Health and Environmental Control (SC DHEC) through letters dated August 8, 2014, and August 12, 2015, and a portion of a SIP revision for Tennessee submitted by the Tennessee Department of Environment and Conservation (TDEC) through a letter dated February 17, 2014. The South Carolina SIP revisions modify a provision that requires fossil fuel-fired steam generators having a heat input capacity of more than 250 million British thermal units (Btu) per hour (Btu/hr) to submit continuous opacity monitoring reports required by the SIP on a quarterly basis. This provision is being modified to allow such reporting on a semiannual basis instead. The South Carolina SIP does not contain any other continuous opacity monitoring report requirements for the subject sources, and this rule revision has no impact on any federal reporting requirements. Specifically, the South Carolina SIP revisions do not override any other reporting requirements that might continue to require more frequent reporting. The Tennessee SIP revision would add a new provision that requires any source subject to the State's title V operating permit program to submit emission monitoring reports required by the SIP on a semiannual basis rather than on a quarterly basis. Much like the South Carolina SIP revisions, the Tennessee SIP revision has no impact on any federal reporting requirements and does not override any other reporting requirements that might continue to require more frequent reporting. EPA is proposing to approve these changes to the South Carolina and Tennessee SIPs because they are consistent with recent proposed changes to federal regulations and because EPA has preliminarily determined that the South Carolina and Tennessee SIP revisions are consistent with the Clean Air Act (CAA or Act).

DATES: Written comments must be received on or before July 21, 2020.

ADDRESSES: Submit your comments, identified by Docket ID No. EPA-R04-OAR-2016-0655 at http://www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Joel Huey, Air Planning and Implementation Branch, Air and Radiation Division, U.S. Environmental Protection Agency, Region 4, 61 Forsyth Street SW, Atlanta, Georgia 30303-8960, or Sean Lakeman, Air Regulatory Management Section, Air Planning and Implementation Branch, Air and Radiation Division, U.S. Environmental Protection Agency, Region 4, 61 Forsyth Street SW, Atlanta, Georgia 30303-8960. Mr. Huey can be reached by telephone at (404) 562-9104 or via electronic mail at huey.joel@epa.gov. Mr. Lakeman can be reached by telephone at (404) 562-9043 or via electronic mail at lakeman.sean@epa.gov.

SUPPLEMENTARY INFORMATION:

I. Historical and Regulatory Background for Appendix P

The following discussion provides a brief historical and regulatory background associated with Appendix P to 40 CFR part 51 (Appendix P), which is related to the South Carolina and Tennessee SIP revisions being proposed for approval in this rulemaking.

A. SIPs and EPA's Regulations at 40 CFR Part 51

The SIP is a state's plan identifying how the state will meet certain CAA requirements, such as how to attain and maintain compliance with the national ambient air quality standards (NAAQS). Section 110 of the CAA requires each state to submit a SIP for EPA approval, and EPA is required to evaluate and either approve or disapprove the state's submission. The SIP (including revisions over time) contains control measures and strategies developed through a public process and formally adopted by the state. Pursuant to CAA section 110, EPA established procedural requirements applicable to all states concerning the preparation, adoption, and submission of SIPs and SIP revisions. These regulations, initially promulgated in 1971, comprise 40 CFR part 51, “Requirements for Preparation, Adoption, and Submittal of Implementation Plans.” Like the SIPs themselves, these regulations are periodically revised. Of particular relevance to this proposed rulemaking, CAA section 110(a)(2)(F) governs requirements associated with stationary source monitoring and reporting in the context of SIPs.

B. Part 51 Requirement for Continuous Monitoring Systems

In 1974, EPA proposed to amend its SIP preparation regulations under 40 CFR part 51 to require that SIPs contain legally enforceable procedures mandating owners or operators of stationary sources to install equipment to monitor pollutant emissions on a continuous basis and to report the data obtained.¹ As was explained in the 1974 notice of proposed rulemaking (NPRM), the regulations already required states to have the legal authority to require such monitoring and recording. The notice stated, however, that at the time that EPA's SIP preparation regulations were originally published, “[t]he Agency believed that the state-of-the-art was such that it was not prudent to require existing sources to install [continuous monitoring] devices.” EPA went on to explain that emission monitoring techniques had continued to develop since that time and, as a result of that work, the Agency believed that for certain sources, including existing ones, “general specifications for accuracy, reliability and durability can be established for continuous emission monitors . . .” Accordingly, the Agency proposed to amend 40 CFR part 51 by adding a new requirement that would “require States to revise their implementation plans to require sources to install monitoring instruments and to report the resulting data to the appropriate State Agency.”

¹ “Requirements for the Preparation, Adoption and Submittal of Implementation Plans: Emission Monitoring of Stationary Sources; Proposed rules,” 39 FR 32871 (September 11, 1974).

In choosing the types of sources and pollutants listed in Appendix P, EPA selected four source categories that would be covered by continuous emission monitoring requirements and performance testing methods simultaneously proposed under new source performance standards (NSPS) promulgated pursuant to section 111 of the CAA (i.e., under part 60).² The four source categories subject to Appendix P are fossil fuel-fired steam generators, nitric acid plants, sulfuric acid plants, and fluid bed catalytic cracking unit catalyst regenerators at petroleum refineries. EPA even noted in the Appendix P proposal that the SIP rulemaking was very closely connected with the NSPS rulemaking. EPA urged states and other affected parties to consider the companion NSPS proposal as part of the Appendix P proposal and to direct comments to the relevant portions of both proposals.³

² 39 FR 32871 at 32872; see also “Standards of Performance for New Stationary Sources: Emission Monitoring Requirements and Performance Testing Methods; Proposed rules,” 39 FR 32852 (September 11, 1974).

³ See id. at 32872.

In 1975, EPA promulgated Appendix P on the same day it promulgated the final NSPS monitoring and performance requirements under 40 CFR part 60.4 5 In the final amendments to 40 CFR part 51, EPA expanded the SIP continuous emission monitoring requirements at 40 CFR 51.19 (now 40 CFR 51.214) to require states to revise their SIPs to include legally enforceable procedures for certain specified categories of existing stationary sources to monitor emissions on a continuous basis. The Agency explained that requiring “a sound program of continuous emission monitoring and reporting” would more fully implement CAA sections 110(a)(2)(F)(ii) and (iii). Section 51.19(e)(4) (now § 51.214(e)) specifies that the SIP must “require the source owner or operator to submit information relating to emissions and operation of the emission monitors to the State to the extent described in appendix P at least as frequently as described therein.” Each state is required to include in its SIP, as a minimum, all of the continuous emission monitoring and recording requirements set forth in Appendix P. See Appendix P, paragraph 1.0.

⁴ “Part 51—Requirements for the Preparation, Adoption and Submittal of Implementation Plans: Emission Monitoring of Stationary Sources,” 40 FR 46240 (October 6, 1975).

⁵ “Part 60—Standards of Performance for New Stationary Sources,” 40 FR 46250 (October 6, 1975).

With respect to reporting requirements, Appendix P specifies under paragraph 4.1 that the SIP “shall require owners or operators of facilities required to install continuous monitoring systems to submit a written report of excess emissions for each calendar quarter and the nature and cause of the excess emissions, if known.” At the time of promulgation in 1975, this specification in Appendix P of quarterly reporting as the minimum frequency was by design aligned with the quarterly reporting frequency generally specified for new sources under Part 60. This “report of excess emissions,” like the corollary “excess emissions and monitoring systems performance report” specified under 40 CFR part 60 (see § 60.7(c)), should be submitted by the facility owner or operator whether or not excess emissions occurred within the reporting period (see Appendix P, paragraph 4.5).

In 1999, EPA promulgated the “Recordkeeping and Reporting Burden Reduction, Final amendments,” 64 FR 7457 (February 12, 1999) (Burden Reduction Rule), which, among other things, revised the NSPS reporting frequency, with a few exceptions, to semiannually for nearly all source categories. As noted in the NPRM for the 1999 rule,⁶ EPA's most recent NSPS and National Emissions Standards for Hazardous Air Pollutants (NESHAP) rules had moved almost exclusively to semiannual reporting. In addition, EPA's operating permit rules at 40 CFR part 70, promulgated in 1992,⁷ require CAA title V operating permit (title V) holders to submit any required monitoring reports at least every six months and to clearly identify all instances of deviations from permit requirements in such reports. See 40 CFR 70.6(a)(3)(iii)(A) and 40 CFR 71.6(a)(3)(iii)(A).

⁶ “Recordkeeping and Reporting Burden Reduction; Proposed revisions to rules and notice of public hearing,” 61 FR 47840 (September 11, 1996). See 61 FR 47844/2 and 64 FR 7457 at 7458/3.

⁷ See 57 FR 32250 (July 21, 1992).

C. EPA's Proposed Revisions to Appendix P Concerning Minimum Emission Reporting Requirements in SIPs

In a NPRM published on February 21, 2020 (hereinafter referred to as the February 21, 2020, NPRM, EPA proposed updates to Appendix P. See 85 FR 10121. In particular, the proposed amendments to Appendix P would revise the minimum frequency for submitting reports of excess emissions from “each calendar quarter” to “twice per year at 6-month intervals.” If EPA finalizes these amendments as proposed, states will be able to make similar revisions in their SIPs. States will be able to establish semiannual reporting as the minimum frequency for affected sources to submit reports of excess emissions to the state. This aligns with what EPA has generally established as the reporting frequency applicable to the Appendix P source categories under more recently updated regulations. The comment period for EPA's proposed revisions closed on March 23, 2020. EPA received no adverse comments on the February 21, 2020, NPRM. Both South Carolina and Tennessee and the American Petroleum Institute submitted comments in support of it.

II. EPA's Proposal on the South Carolina and Tennessee Submittals

On August 8, 2014, and August 12, 2015, SC DHEC submitted revisions to the South Carolina SIP concerning the frequency with which fossil fuel-fired steam generators are required to submit continuous opacity monitoring reports to the State. On December 30, 2016, SC DHEC submitted additional information on this topic in response to questions raised by EPA Region 4. On February 17, 2014, TDEC submitted a revision to the Tennessee SIP concerning the frequency with which major sources subject to the title V operating permit program are required to report excess emissions data to the State. On July 16, 2015, TDEC submitted additional information on this topic in response to questions raised by EPA Region 4. These SIP revisions would change certain existing quarterly emission reporting requirements to semiannual requirements for affected facilities. Additionally, these SIP revisions do not purport to override other SIP provisions which may require quarterly, or more frequent, reporting.

In their submittals, SC DHEC and TDEC note that most of the NSPS of 40 CFR part 60 and NESHAP of 40 CFR parts 61 and 63 require semiannual reporting of emissions data. SC DHEC and TDEC also note that the title V permitting program under 40 CFR part 70 allows semiannual reporting of any required monitoring. See 40 CFR 70.6(a)(3)(iii)(A). In addition, SC DHEC and TDEC emphasize the significance of the amendments to federal rules that EPA finalized in the 1999 Burden Reduction Rule. Through that rulemaking, as discussed above, EPA changed the frequency of required emission data reporting from quarterly to semiannually for nearly all NSPS categories, consistent with the most recent NSPS and NESHAP rules promulgated at that time, and for the general provisions for the NSPS and NESHAP programs. SC DHEC and TDEC assert, therefore, that quarterly reporting is inconsistent with most federal reporting requirements and overly burdensome to industry. Both States assert that modifying certain SIP provisions to require semiannual rather than quarterly reporting would improve implementation of their air quality programs by simplifying and reducing the reporting burden on sources.

As noted in section 1.B, above, Paragraph 1.1 of Appendix P applies to fossil fuel-fired steam generators, nitric acid plants, sulfuric acid plants, and fluid bed catalytic cracking unit catalyst regenerators at petroleum refineries. Appendix P requires sources in these categories to install, calibrate, operate, and maintain all monitoring equipment necessary for continuously monitoring the pollutants specified and to begin monitoring and recording the relevant data within 18 months of plan approval or promulgation. With regard to emissions data reporting requirements, paragraph 4.1 of Appendix P provides that the state plan must “require owners or operators of facilities required to install continuous monitoring systems to submit a written report of excess emissions for each calendar quarter and the nature and cause of the excess emissions, if known.” ⁸ The SC DHEC and TDEC submittals would change the frequency of required emission reports for some facilities subject to Appendix P from quarterly to semiannually. As such, these submittals are inconsistent with the current Appendix P requirement for affected facilities to submit a report of excess emissions for “each calendar quarter.” However, as mentioned above, on February 21, 2020, EPA proposed to change the Appendix P provision regarding the minimum frequency for submitting reports of excess emissions from “each calendar quarter” to “twice per year at 6-month intervals.” If EPA finalizes the February 21, 2020, NPRM as proposed, the South Carolina SIP revision and the Tennessee SIP revision will no longer be in conflict with federal requirements.

⁸ The South Carolina SIP requires sources subject to the State's opacity monitoring requirements to submit to the State reports of excess opacity measurements, together with their nature and cause. See SC Regulation 61-62.5 Standard 1, Section IV.B.1.a. The Tennessee SIP requires owners or operators of facilities of the four Appendix P source categories to submit a written report of excess emissions for each calendar quarter and the nature and cause of the excess emissions, if known. See TN Rule 1200-03-10-.02(2)(b)1.

Section 110(l) of the CAA provides that EPA shall not approve a revision to a plan if the revision would interfere with any applicable requirement concerning attainment and reasonable further progress, or any other applicable requirement of the CAA. As described further in sections III and IV below, the South Carolina and Tennessee SIP revisions that are the subject of the proposed actions will not override any more stringent reporting requirements,⁹ will not cause any changes in allowable pollutant emissions, and will not otherwise interfere with the States' abilities to attain and maintain the NAAQS or interfere with any other applicable CAA requirement. Furthermore, these revisions will not interfere with the revised Appendix P because they will not conflict with the minimum reporting requirements contained therein, and EPA does not intend to take final action on these revisions unless and until EPA takes final action to revise Appendix P as proposed in the February 21, 2020, NPRM.

⁹ To the extent any sources are required by other CAA requirements to submit continuous opacity monitoring reports more frequently, those requirements will continue to apply and will not be impacted by these proposed revisions.

III. EPA's Analysis of the South Carolina SIP Submittals

The August 8, 2014, submittal from SC DHEC seeks to make multiple changes to the State's implementation plan, including Regulation 61-62.5 Standard 1, Section IV.B, “Continuous Opacity Monitor Reporting Requirements.” ¹⁰ Section IV.B applies to the owner or operator of any fossil fuel-fired steam generator of more than 250 million Btu/hr of heat input. South Carolina's change to Section IV.B reduces the required frequency of the State's continuous opacity monitoring data reporting requirement for these units from quarterly to semiannually. The change also makes some stylistic edits, such as changing “Section (IV)(A)” to “Section IV.A” and “semiannual” to “semi-annual.” The August 12, 2015, submittal from SC DHEC made changes to the August 8, 2014, submittal and contained other, new changes to the SIP as well. The only change to Section IV.B included in the August 12, 2015, submittal changes the word “semiannual” to “semi-annual” in the last sentence of Section IV.B.1 and in the first sentence of Section IV.B.3. In these actions, EPA is only proposing to act on the changes to Regulation 61-62.5 Standard 1, Section IV.B. These revisions do not cause any changes to allowable pollutant emissions under the South Carolina SIP.

¹⁰ EPA has taken action or will act on the remainder of SC DHEC's submittals in a separate action.

EPA has reviewed South Carolina's revisions to Regulation 61-62.5 Standard 1, Section IV.B and is proposing to determine that this change is approvable. If EPA finalizes the changes proposed in the February 21, 2020, NPRM, the proposed SIP revisions will not conflict with the minimum reporting requirements of the revised Appendix P. In addition, while Regulation 61-62.5 Standard 1, Section IV.B, as proposed, requires fossil fuel-fired steam generators having a heat input capacity of more than 250 million Btu/hr to submit continuous opacity monitor reports to the State semiannually, subject facilities must continue to comply with any more stringent reporting obligations under any applicable federal or state rules. A SIP requirement for a semiannual monitoring report is consistent with EPA's part 70 monitoring report requirement at 40 CFR 70.6(a)(3)(iii)(A). Also, as described in the 1999 Burden Reduction Rule, the EPA's experience with a variety of NSPS and NESHAP rulemakings covering industries of all types suggests that semiannual reporting provides sufficiently timely information to both ensure compliance and enable adequate enforcement of applicable requirements, while imposing less burden on the affected industry than would quarterly reporting.

On the bases described above, EPA proposes to determine that submission of continuous opacity monitoring reports on a semiannual basis by owners or operators of fossil fuel-fired steam generators having a heat input capacity of more than 250 million Btu/hr will provide sufficiently timely information to ensure compliance and enable adequate enforcement of applicable requirements for the affected sources. Consequently, EPA is proposing to approve South Carolina's changes to Regulation 61-62.5 Standard 1, Section IV.B as outlined in this proposed rulemaking. EPA does not intend to take final action on South Carolina's SIP revisions related to Appendix P unless and until EPA takes final action to revise Appendix P as proposed in the February 21, 2020, NPRM.

IV. EPA's Analysis of the Tennessee SIP Submittal

On February 17, 2014, TDEC submitted a revision to Rule 1200-03-10-.02, “Monitoring of Source Emissions, Recording, and Reporting of the Same Are Required,” by adding a new subparagraph (2)(d) which states: “Any source located at a facility required to obtain a major source operating permit in accordance with the provisions of paragraph (11) of Rule 1200-03-09-.02 may submit the reports required by this rule on a semi-annual basis.” Paragraph (11) of Rule 1200-03-09-.02 is the State of Tennessee's title V operating permits program for major stationary sources, as approved under 40 CFR part 70. The State's rationale for the revision to Rule 1200-03-10-.02 is to allow sources subject to the continuous in-stack monitoring requirements and quarterly excess emission reporting requirements set forth in the rule to synchronize with the semiannual reporting requirements of their title V program (as required by 40 CFR 70.6(a)(3)(iii)(A)) and with other federal rules. This revision does not cause any changes in allowable pollutant emissions under the Tennessee SIP.

EPA has reviewed Tennessee's change to Rule 1200-03-10-.02 and is proposing to determine that this change is approvable. If EPA finalizes the changes proposed in EPA's February 21, 2020, NPRM, the proposed SIP revisions will not conflict with the minimum reporting requirements of the revised Appendix P. In addition, while Rule 1200-03-10-.02, as proposed for revision, allows facilities subject to the State's title V operating permits program to submit emissions reports required by Rule 1200-03-10-.02 to the State semiannually, sources must continue to comply with any other, more stringent reporting obligations under any applicable federal or state rules. A SIP requirement for a semiannual monitoring report is consistent with EPA's part 70 monitoring report requirement at 40 CFR 70.6(a)(3)(iii)(A). Also, as described in the 1999 Burden Reduction Rule, the EPA's experience with a variety of NSPS and NESHAP rulemakings covering industries of all types suggests that semiannual reporting provides sufficiently timely information to both ensure compliance and enable adequate enforcement of applicable requirements, while imposing less burden on the affected industry than would quarterly reporting.

On the bases described above, EPA proposes to determine that submission of reports required by the Tennessee SIP for owners or operators of facilities subject to the State's title V operating permit program on a semiannual basis will provide sufficiently timely information to ensure compliance and enable adequate enforcement of applicable requirements for the affected sources. Consequently, EPA is proposing to approve Tennessee's change to Rule 1200-03-10-.02 as outlined in this proposed rulemaking. EPA does not intend to take final action on this proposal to approve Tennessee's SIP revision related to Appendix P unless and until EPA takes final action to revise Appendix P as proposed in the February 21, 2020, NPRM.

V. Incorporation by Reference

In this document, EPA is proposing to include in a final EPA rule regulatory text that includes incorporation by reference. In accordance with requirements of 1 CFR 51.5, EPA is proposing to incorporate by reference the South Carolina Regulation 61-62.5 Standard 1, Section IV, “Opacity Monitoring Requirements,” state effective June 26, 2015, which revises the quarterly reporting requirement to a semiannual requirement. Also, in accordance with requirements of 1 CFR 51.5, EPA is proposing to incorporate by reference the Tennessee Rule 1200-03-10-.02, “Monitoring of Source Emissions, Recording, and Reporting of the Same Are Required,” state effective February 5, 2013, which revises the quarterly reporting requirement to a semiannual requirement. EPA has made, and will continue to make, these materials generally available through www.regulations.gov and at the EPA Region 4 office (please contact the person identified in the FOR FURTHER INFORMATION CONTACT section of this preamble for more information).

VI. Proposed Actions

EPA is proposing to approve a portion of South Carolina's August 8, 2014, and August 12, 2015, SIP revisions to change Rule 61-62.5 Standard 1, Section IV.B.1 to provide that the owner or operator of any fossil fuel-fired steam generators having a heat input capacity of more than 250 million Btu/hr shall submit a written continuous opacity monitor report to SC DHEC semiannually or more often if requested, thus revising the existing requirement to submit such reports on a quarterly basis. EPA is also proposing to approve Tennessee's February 17, 2014, SIP revision including a change to Rule 1200-03-10-.02 to add a new subparagraph (2)(d) which states: “Any source located at a facility required to obtain a major source operating permit in accordance with the provisions of paragraph (11) of Rule 1200-03-09-.02 may submit the reports required by this rule on a semi-annual basis.” This revision to the Tennessee SIP changes the existing SIP requirement for title V sources to submit monitoring reports required by Rule 1200-03-10-.02 to the State on a quarterly basis to a semiannual basis. EPA does not intend to take final action on South Carolina's and Tennessee's SIP revisions related to Appendix P unless and until EPA takes final action to revise Appendix P as proposed in the February 21, 2020, NPRM.

VII. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. These actions merely propose to approve state law as meeting Federal requirements and do not impose additional requirements beyond those imposed by state law. For that reason, these proposed actions:

• Are not significant regulatory actions subject to review by the Office of Management and Budget under Executive Orders 12866 (58 FR 51735, October 4, 1993) and 13563 (76 FR 3821, January 21, 2011);

• Are not Executive Order 13771 (82 FR 9339, February 2, 2017) regulatory actions because SIP approvals are exempted under Executive Order 12866;

• Do not impose an information collection burden under the provisions of the Paperwork Reduction Act (44 U.S.C. 3501 et seq.);

• Are certified as not having a significant economic impact on a substantial number of small entities under the Regulatory Flexibility Act (5 U.S.C. 601 et seq.);

• Do not contain any unfunded mandate or significantly or uniquely affect small governments, as described in the Unfunded Mandates Reform Act of 1995 (Pub. L. 104-4);

• Do not have Federalism implications as specified in Executive Order 13132 (64 FR 43255, August 10, 1999);

• Are not economically significant regulatory actions based on health or safety risks subject to Executive Order 13045 (62 FR 19885, April 23, 1997);

• Are not significant regulatory actions subject to Executive Order 13211 (66 FR 28355, May 22, 2001);

• Are not subject to requirements of Section 12(d) of the National Technology Transfer and Advancement Act of 1995 (15 U.S.C. 272 note) because application of those requirements would be inconsistent with the CAA; and

• Do not provide EPA with the discretionary authority to address, as appropriate, disproportionate human health or environmental effects, using practicable and legally permissible methods, under Executive Order 12898 (59 FR 7629, February 16, 1994).

In addition, for Tennessee, the SIP is not approved to apply on any Indian reservation land or in any other area where EPA or an Indian tribe has demonstrated that a tribe has jurisdiction. The rule does not have tribal implications and will not impose substantial direct costs on tribal governments or preempt tribal law as specified by Executive Order 13175 (65 FR 67249, November 9, 2000).

For South Carolina, because this proposed action merely proposes to approve state law as meeting Federal requirements and does not impose additional requirements beyond those imposed by state law, this proposed action for the State of South Carolina does not have Tribal implications as specified by Executive Order 13175 (65 FR 67249, November 9, 2000). Therefore, this proposed action will not impose substantial direct costs on Tribal governments or preempt Tribal law. The Catawba Indian Nation (CIN) Reservation is located within the boundary of York County, South Carolina. Pursuant to the Catawba Indian Claims Settlement Act, S.C. Code Ann. 27-16-120 (Settlement Act), “all state and local environmental laws and regulations apply to the [Catawba Indian Nation] and Reservation and are fully enforceable by all relevant state and local agencies and authorities.” The CIN also retains authority to impose regulations applying higher environmental standards to the Reservation than those imposed by state law or local governing bodies, in accordance with the Settlement Act.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: July 15, 2020.
Mary Walker,
Regional Administrator, Region 4.

[FR Doc. 2020-15720 Filed 7-20-20; 8:45 am]

BILLING CODE 6560-50-P